DEPARTMENT OF DEFENSE

Department of the Army

Preparation of a Real Property Exchange Environmental Impact Statement (EIS), West Los Angeles, CA

AGENCY: Department of the Army, DoD.

ACTION: Notice of intent.

SUMMARY: The United States Army Reserve (USAR) will prepare an EIS to analyze the impacts of a real property exchange. This Real Property Exchange Program is conducted under the authority of 10 U.S.C. 18240, as amended. This legislation permits DoD to convey certain real property assets of reserve components to a State, local government, local authority, or private parties in exchange for land and real property improvements, existing and/or to be constructed, including utilities, equipment, and furnishings for the replacement facilities. Approximately 10 acres with two, two-story USAR Center buildings (Holderman and Munemori Halls) and a detached maintenance building will be exchanged for new construction or real property improvements at the USAR facilities located at (1) Bell; (2) Miramar Marine Corps Air Station, located in San Diego; and (3) March USAR Center located in Riverside. The exchange property being offered by the Federal Government for development by the private sector is located at the Southeast corner of Wilshire Boulevard and Federal Avenue in the Southwestern portion of Los Angeles County and is approximately 13 miles west of downtown Los Angeles. The parcel is bounded on all sided by the city of Los Angeles, and is centrally located in the western part of Los Angeles County. It is immediately surrounded by the communities of Westwood, Brentwood, Sawtelle, and West Los Angeles, which are all part of the city of Los Angeles. Additionally, Santa Monica, Beverly Hills, and Pacific Palisades are all within 5 miles of the subject property. The EIS will discuss in detail the 10-acre parcel to be exchanged and all reasonable alternatives including, but not limited to, the (1) No Action Alternative and (2) Army Exchange with Non-Governmental Development alternatives on the exchanged property. New construction or real property improvements that will occur at the three USAR facilities will be covered by separate National Environmental Policy Act (NEPA) documentation.

FOR FURTHER INFORMATION CONTACT: Patricia Ryan at (562) 795-2356 or by e-mail at patricia.e.ryan@usar.army.mil.

SUPPLEMENTARY INFORMATION: An EIS will be prepared in accordance with NEPA to address any environmental or socioeconomic impacts associated with the real property exchange. The EIS will examine a wide range of resource areas, including, but not limited to, land use, air quality, traffic, noise, biological resources, cultural resources, socioeconomics, utilities, hazardous and toxic substances, and cumulative environmental effects. Air quality and traffic effects are believed at this time to be the areas with greatest potential for impact.

All reasonable alternatives, including a No Action Alternative (as required by NEPA), will be developed and analyzed in the EIS. The range of alternatives will include several redevelopment scenarios. During the scoping process, other alternatives may be developed for consideration. The EIS will analyze each alternative's impact on the natural and cultural environments at the West Los Angeles facility and the surrounding area. Mitigation measures will also be considered in the EIS.

Tribal, federal, state and local agencies, and the public are invited to participate in the scoping process for the preparation of the EIS. The scoping process will help identify additional possible alternatives, potential environmental impacts, and key issues of concern to be analyzed in the EIS. Scoping meetings will be held in convenient locations near the West Los Angeles facility. Notification of the times and locations for the scoping meetings will be published in local newspapers. To ensure scoping comments are fully considered in the draft EIS, comments and suggestions should be received within the 30-day scoping period.

Dated: April 17, 2007.
Addison D. Davis, IV,
Deputy Assistant Secretary of the Army (Environment, Safety and Occupational Health).

[FR Doc. 07-2135 Filed 4-30-07; 8:45 am]

BILLING CODE 3710-07-M